DEPARTMENT OF COMMERCE

Census Bureau

Agency Information Collection Activities; Submission to the Office of Management and Budget (OMB) for Review and Approval; Comment Request; 2026 Operational Test in Support of the 2030 Census

AGENCY: U.S. Census Bureau, Department of Commerce.

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. The purpose of this notice is to allow for 30 days of public comment on the proposed request to OMB to update the ACS Methods Panel prior to the submission of the information collection request (ICR) to OMB for approval.

DATES: To ensure consideration, comments regarding this proposed information collection must be received on or before March 5, 2026.

ADDRESSES: Interested persons are invited to submit written comments by email to addc.2030.census.paperwork@census.gov. Please reference “2026 Operational Test in Support of the 2030 Census” in the subject line of your comments. You may also submit comments, identified by Docket Number USBC-2026-0034, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Christopher Denno, Program Manager, Decennial Census Management Division, by phone at 301.763.4092 or by email to addc.2030.census.paperwork@census.gov.

Title: 2026 Operational Test in Support of the 2030 Census.

OMB Control Number: 0607-0936.

Form Number(s): Electronic Instruments (Draft Content Specifications for them): Internet Self-Response Instrument—D6-QE-ISR, In-Field Enumeration Instrument—D6-QE-IFE.

Type of Request: Regular submission, Request for Comment.

Number of Respondents: 154,600 for all operations.

Average Hours per Response: 25 minutes.

Total Burden Hours: 64,417.

2026 Operational Test in Support of the 2030 Census
Operation or category | Estimated number of respondents | Estimated time per response (minutes) | Total burden hours
Self-Response | 77,300 | 40 | 51,533
In-Field Enumeration | 77,300 | 10 | 12,883
Totals | 154,600 |  | 64,417

Needs and Uses: The 2026 Operational Test in Support of the 2030 Census (hereafter, “Test”) is an American Community Survey (ACS) test using the ACS Methods Panel that is planned to help the Census Bureau prepare for the 2030 Census. The Test is not an end-to-end test of all operational work. Instead, it is a scaled-down version with appropriate adjustments of the selected aspects of the census. The Test will be conducted in two test sites—Spartanburg, SC and Huntsville, AL—which allows for testing in real world situations and on a larger scale than research simulations allow. The Test will test the viability of new and revamped systems and methods researched and developed for the census; to identify, document, and address potential challenges. Additionally, the Test will evaluate and assess the use of United States Postal Service (USPS) staff to increase efficiency in various capacities typically performed by temporary Census Bureau field workers. Some decisions, including names of operations and workload estimates for those operations, have yet to be made; however, at this time, the Census Bureau can present aspects of the test that affect the public.

Administrative Enhancements

The Test will focus on evaluating how well improved processes and solutions work for Recruit Applications and Selecting and Hiring Applicants. Specifically, the test will evaluate the effectiveness of a new online job application and onboarding solution for recruiting, a virtual hiring process and revised supervisory assessment for selecting and hiring applicants.

The Test will also test new Office Management, Payroll, and HR Administration procedures which involves running the offices and providing the following support functions:

• Personnel and payroll administration

• Administration of claims related to occupational health, employee assistance, safety, worker's compensation, and personal property

• Staffing

• Management and supervision

• Offboarding temporary staff when their employment period ends (i.e., separate from federal service)

Self-Response

Self-Response collects respondent information via the internet. A housing unit (HU) is a private residence for a person or small group of people (such as a family or group of roommates). Each HU must have a separate entrance that provides direct access to the outdoors or to a common space within a building (such as a hall, lobby, or stairwell) without having to pass through the living quarters of any other people. A living quarter (LQ) is typically a structure that is intended for residential use. However, any structure or place where someone is living (or where someone is sleeping without having a usual home elsewhere) is also considered a LQ, even if it is not intended for residential use.

Internet Self-Response

Internet Self-Response (ISR) allows the public to respond online. ISR was available in a decennial census for HUs for the first time in the 2020 Census. For the Test, ISR will be available in English.

In-Field Enumeration

In-Field Enumeration (IFE) is a field activity that collects responses in person. IFE captures the status of HUs and enumerates HUs through in-person interviews. IFE also includes follow-up with nonmailable addresses. For the Test, IFE will be collecting information to create cost and staffing estimates to help inform 2030 Census IFE estimates. For the Test, USPS staff will support the IFE operation. The purpose of the USPS Pilot is to study the feasibility of using Postal Participants in the capacity of Census Bureau enumerators during the Test. USPS staff will contact households and conduct interviews in the same manner as Census Bureau enumerators. Additionally, the Test IFE will implement numerous enhancements to streamline data collection, reduce time in the field, and improve data accuracy. These capabilities (on a mobile device) include functionality that provide field staff an address list with a map, allows users to add and delete addresses, view surrounding addresses, and flag addresses as duplicates.

Affected Public: Individuals or households.

Frequency: One-time.

Respondent's Obligation: Mandatory.

Legal Authority: Title 13, U.S. Code, Sections 23(c), 141, 193, 221, and 223.

We are soliciting public comments to permit the Department/Bureau to: (a) Evaluate whether the proposed information collection is necessary for the proper functions of the Department, including whether the information will have practical utility; (b) Evaluate the accuracy of our estimate of the time and cost burden for this proposed collection, including the validity of the methodology and assumptions used;(c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-02206 Filed 2-2-26; 8:45 am]

BILLING CODE 3510-07-P